FARM CREDIT ADMINISTRATION

[NV-18-13]

Equal Employment Opportunity and Diversity

AGENCY: Farm Credit Administration.

ACTION: Policy statement.

SUMMARY: The Farm Credit Administration (FCA) Board recently updated its Policy Statement on Equal Employment Opportunity and Diversity.

DATES: The policy went into effect on September 4, 2018.

FOR FURTHER INFORMATION CONTACT: Thais Burlew, Director of Equal Employment Opportunity and Inclusion, (703) 883-4290, TTY (703) 883-4352, burlewt@fca.gov.

SUPPLEMENTARY INFORMATION: While not required by law, the Equal Employment Opportunity Commission (EEOC) has determined that reissuance of an agency's EEO policy statement each fiscal year is a symbol of the agency leadership's commitment to EEO and Diversity principles. The FCA conducted its annual review of Policy Statement FCA-PS-62 on Equal Employment Opportunity (EEO) and Diversity. The only changes to this Policy Statement are minor technical changes and a minor change to reflect revisions to the regulations implementing the Rehabilitation Act.

The text of the updated Policy Statement is set forth below in its entirety. All FCA Board policy statements may be viewed on FCA's website. From www.fca.gov, select “Laws & Regulations,” then select “FCA Handbook,” then select “FCA Board Policy Statements.”

Equal Employment Opportunity and Diversity

FCA-PS-62

Effective Date: September 4, 2018.

Previous Action: [BM-12-SEP-02-02] (70 FR 71142, 11/25/05); [BM-13-JUL-06-03] (71 FR 46481, 8/14/06); [NV-11-15, 7/08/11]; [NV-13-19] (78 FR 51187, 8/20/13); [NV-14-15] (79 FR 50908,8/26/14); [NV-15-10] (80 FR 51806,8/26/15); [NV-16-14] (81 FR 53482,8/12/16). Replaces FCA-PS-62 [NV-17-24] dated August 24, 2017 (82 FR 41258, 8/31/17).

Source of Authority: Title VII of the Civil Rights Act of 1964, as amended (42 U.S.C. 2000e et seq.); Age Discrimination in Employment Act (29 U.S.C. 621 et seq.); Section 501 of the Rehabilitation Act of 1973, as amended (29 U.S.C. 791); Equal Pay Act of 1974 (29 U.S.C. 206(d)); Civil Service Reform Act of 1978 (5 U.S.C. 3112); Notification and Federal Employee Antidiscrimination and Retaliation Act of 2002 (No FEAR Act) (5 U.S.C. 2301); Genetic Information Nondiscrimination Act of 2008 (42 U.S.C. 2000ff et seq.); section 5.9 of the Farm Credit Act of 1971, as amended (12 U.S.C. 2243); Executive Order 11478 (Equal Employment Opportunity in the Federal Government), as amended by Executive Order 13152 to include a prohibition on discrimination based on status as a parent; Executive Order 13166 (Improving Access to Services for Persons with Limited English Proficiency); 29 CFR part 1614; Equal Employment Opportunity Commission Management Directives.

The Farm Credit Administration Board Hereby Adopts the Following Policy Statement:

Purpose

The Farm Credit Administration (FCA or Agency) Board reaffirms its commitment to Equal Employment Opportunity (EEO) and Diversity (EEOD) and its belief that all FCA employees should be treated with dignity and respect. The Board also provides guidance to Agency management and staff for deciding and taking action in these critical areas.

Importance

Unquestionably, the employees who comprise the FCA are its most important resource. The Board fully recognizes that the Agency draws its strength from the dedication, experience, and diversity of its employees. The Board is firmly committed to taking whatever steps are needed to protect the rights of its staff and to carrying out programs that foster the development of each employee's potential. We believe an investment in efforts that strongly promote EEOD will prevent the conflict and the high costs of correction for taking no, or inadequate, action in these areas.

The Farm Credit Administration (FCA) Board Adopts the Following Policy Statement

It is the policy of the Farm Credit Administration (FCA or Agency) to prohibit discrimination in Agency policies, program practices, and operations. Employees, applicants for employment, and members of the public who seek to take part in FCA programs, activities, and services will be treated fairly. The FCA Board Chairman and Chief Executive Officer (CEO) is ultimately responsible for ensuring that FCA meets all EEOD requirements and initiatives in accordance with laws and regulations, to maintain a workplace that is free from discrimination and that values all employees. FCA, under the appropriate laws and regulations, will:

• Ensure equal employment opportunity based on merit and qualification, without discrimination because of race, color, religion, sex (including sexual orientation), age (40 or older), national origin, disability, status as a parent, genetic information, or filing of a complaint, participation in discrimination or harassment complaint proceedings, or other opposition to discrimination;

• Provide for the prompt and fair consideration of complaints of discrimination;

• Make reasonable accommodations for qualified applicants for employment and employees with physical or mental disabilities, and provide personal assistance services to employees with targeted disabilities, as provided under the Rehabilitation Act and its implementing regulations;

• Make reasonable accommodations based on applicants' and employees' religious beliefs or practices, consistent with Title VII;

• Provide an environment free from harassment to all employees;

• Create and maintain an organizational culture that recognizes, values, and supports employee and public diversity and inclusion;

• Develop objectives within the Agency's operation and strategic planning process to meet the goals of EEOD and this policy;

• Implement affirmative programs to carry out this policy within the Agency; and

• To the extent practicable, seek to encourage the Farm Credit System to continue its efforts to promote and increase diversity.

Diversity and Inclusion

The FCA intends to be a model employer. That is, as far as possible, FCA will build and maintain a workforce that reflects the rich diversity of individual differences evident throughout this Nation. The Board views individual differences as complementary and believes these differences enrich our organization. When individual differences are respected, recognized, and valued, diversity becomes a powerful force that can contribute to achieving superior results. Therefore, we will create, maintain, and continuously improve on an organizational culture that fully recognizes, values, and supports employee diversity. The Board is committed to promoting and supporting an inclusive environment that provides to all employees, individually and collectively, the chance to work to their full potential in the pursuit of the Agency's mission. We will provide everyone the opportunity to develop to his or her fullest potential. When a barrier to someone achieving this goal exists, we will strive to remove this barrier.

Affirmative Employment

The Board reaffirms its commitment to ensuring FCA conducts all of its employment practices in a nondiscriminatory manner. The Board expects full cooperation and support from everyone associated with recruitment, selection, development, and promotion to ensure such actions are free of discrimination. All employees will be evaluated on their EEOD achievements as part of their overall job performance. Though staff commitment is important, the role of supervisors is paramount to success. Agency supervisors must be coaches and are responsible for helping all employees develop their talents and give their best efforts in contributing to the mission of the FCA.

Workplace Harassment

It is the policy of the FCA to provide a work environment free from unlawful discrimination in any form, and to protect all employees from any form of harassment, either physical or verbal. The FCA will not tolerate harassment in the workplace for any reason. The FCA also will not tolerate retaliation against any employee for reporting harassment or for aiding in any inquiry about reporting harassment. FCA begins prompt, thorough, and impartial investigations within 10 days of receiving notice of harassment allegations.

Disabled Veterans Affirmative Action Program (DVAAP)

A disabled veteran is defined as someone who is entitled to compensation under the laws administered by the Veterans Administration or someone who was discharged or released from active duty because of a service-connected disability.

The FCA is committed to increasing the representation of disabled veterans within its organization. Our Nation owes a debt to those veterans who served their country, especially those who were disabled because of service. To honor these disabled veterans, the FCA shall place emphasis on making vacancies known to and providing opportunities for employing disabled veterans.

Dated this 4th day of September 2018.
By order of the Board.
Dale L. Aultman,
Secretary, Farm Credit Administration Board.

[FR Doc. 2018-19545 Filed 9-7-18; 8:45 am]

BILLING CODE 6705-01-P